CONSUMER PRODUCT SAFETY COMMISSION

[Docket No. CPSC-2010-0112]

Agency Information Collection Activities; Submission for OMB Review; Comment Request—Contests, Challenges, and Awards

AGENCY: Consumer Product Safety Commission.

ACTION: Notice.

SUMMARY: In accordance with the requirements of the Paperwork Reduction Act (PRA) of 1995 (44 U.S.C. chapter 35), the Consumer Product Safety Commission (Commission or CPSC) announces that the Commission has submitted to the Office of Management and Budget (OMB) a request for extension of approval of a collection of information associated with CPSC-sponsored contests, challenges, and awards (OMB No. 3041-0151). In the Federal Register of May 6, 2014 (79 FR 25844), the CPSC published a notice to announce the agency's intention to seek extension of approval of the collection of information. We received one comment. The commenter states that contests should be targeted to specific consumer segments, eligibility requirements should be indicated in the rules, and that online communities geared toward problem solving should be engaged to provide solutions.

The CPSC contests that are directed toward raising awareness are targeted at relevant populations. For example, the poster contest to raise awareness on carbon monoxide poisoning was directed towards children and their families. In addition, consistent with the commenter's recommendation, CPSC contest materials and the related rules have listed applicable eligibility requirements. Finally, online problem solving communities are not precluded from entering contests open to the general public. Thus, we believe that CPSC's contests are consistent with the commenter's objectives. Therefore, by publication of this notice, the Commission announces that CPSC has submitted to the OMB a request for extension of approval of that collection of information, without change.

DATES: Written comments on this request for extension of approval of information collection requirements should be submitted by September 2, 2014.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2010-0112.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

Title: Contests, Challenges, and Awards.

OMB Number: 3041-0151.

Type of Review: Renewal of generic collection.

Frequency of Response: On occasion.

Affected Public: Contestants, award nominees, award nominators.

Estimated Number of Respondents: 500 participants annually. In addition, 20 participants may be required to provide additional information upon selection.

Estimated Time per Response: 5 hours/participant. 20 participants may require 2 additional hours each to provide additional information upon selection.

Total Estimated Annual Burden: 2,540 hours (500 participants × 5 hours/participant) + (20 participants × 2 hours/participant).

General Description of Collection: The Commission establishes contests, challenges, and awards to increase the public's knowledge and awareness of safety hazards. The Commission also recognizes those individuals, firms, and organizations that work to address issues related to consumer product safety through awards.

Dated: July 28, 2014.
Todd A. Stevenson,
Secretary, Consumer Product Safety Commission.

[FR Doc. 2014-18002 Filed 7-30-14; 8:45 am]

BILLING CODE 6355-01-P